FEDERAL COMMUNICATIONS COMMISSION

Notice of Public Information Collection(s) Being Submitted to OMB for Review and Approval

December 19, 2001.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before February 7, 2002. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0649.

Title: Sections 76.1601, Deletion or Repositioning of Broadcast Signals; 76.1617, Initial Must-Carry Notice; 76.1607 and 76.1708, Principal Headend.

Form Number: N/A.

Type of Review: Revision of a currently approved collection.

Respondents: Business or other for-profit entities; Individuals or households; Not-for-profit institutions; and State, local, or tribal government.

Number of Respondents: 10,400.

Estimated Time per Response: 0.5 to 1.0 hours.

Frequency of Response: On occasion reporting requirement; Third party disclosure.

Total Annual Burden: 2,200 hours.

Total Annual Costs: None.

Needs and Uses: Under 47 CFR Sections 76.1601, 76.1607, 76.1617, and 76.1708 of FCC rules cable television system operators must provide various notification requirements—to provide written notice to any broadcast television station at least 30 days prior to deleting from carriage or repositioning the station; to provide written notice by certified mail to all stations carried on its system pursuant to the “must-carry” rules at least 60 days prior to any change in its principal headend designation; to notify all qualified non-commercial and educational stations of its principal headed within 60 days of system activation; and to maintain for public inspection the designation and location of its principal headend, including in this file a record of all changes of the designated headend.

Federal Communications Commission.
William F. Caton,
Deputy Secretary.

[FR Doc. 02-367 Filed 1-7-02; 8:45 am]

BILLING CODE 6712-01-P